DEPARTMENT OF AGRICULTURE

Office of Advocacy and Outreach

7 CFR Part 2502

RIN 0503-AA49

Agricultural Career and Employment Grants Program; Correction

AGENCY: Office of Advocacy and Outreach, Departmental Management, USDA.

ACTION: Interim rule with request for comments; correction.

SUMMARY: On November 8, 2011, the Office of Advocacy and Outreach published an interim rule concerning grants to assist agricultural employers and farmworkers by improving the supply, stability, safety, and training of the agricultural labor force. The effective date for the rule was inadvertently omitted. This document establishes the effective date of that November 8 interim final rule.

DATES: The effective date for the interim rule published November 8, 2011, at 76 FR 69114, is November 15, 2011, and is applicable beginning November 8, 2011. Comments on the November 8 interim rule must still be received by the agency on or before December 8, 2011, to be assured of consideration.

ADDRESSES: You may submit comments on the interim rule, identified by RIN 0503-AA49 by any of the following methods:

Federal e-Rulemaking Portal: http://www.regulations.gov. Follow the instructions for submitting comments.

Email: christine.chavez@osec.usda.gov. Include Regulatory Information Number (RIN) number 0503-AA49 in the subject line of the message.

Fax: (202) 720-7136

Mail: Comments may be mailed to the Office of Advocacy and Outreach, U.S. Department of Agriculture, 1400 Independence Avenue SW., Room 520-A, Stop 9801, Washington DC 20250-9821.

Hand Delivery/Courier: Office of Advocacy and Outreach, U.S. Department of Agriculture, 1400 Independence Avenue SW., Room 520-A, Washington, DC 20250.

Instructions: All submissions received must include the agency name and the RIN for this rulemaking. All comments received will be posted without change to http://www.regulations.gov, including any personal information provided.

FOR FURTHER INFORMATION CONTACT: Christine Chavez, Program Leader, Farmworker Coordination, Office of Advocacy and Outreach, U.S. Department of Agriculture, 1400 Independence Avenue SW., Stop 9801, Washington, DC 20250, Voice: (202) 205-4215, Fax: (202) 720-7136, Email: christine.chavez@osec.usda.gov.

SUPPLEMENTARY INFORMATION:

Need for Correction

On November 8, 2011 (76 FR 69114), the Office of Advocacy and Outreach published an interim rule. Due to an editing error, the effective date for the rule was omitted.

Dated: November 8, 2011.
Christine Chavez,
Program Leader, Farmworker Coordination.

[FR Doc. 2011-29389 Filed 11-14-11; 8:45 am]

BILLING CODE 3412-89-P